DEPARTMENT OF TRANSPORTATION

Federal Aviation Administration

[Docket No. FAA-2023-1426]

Agency Information Collection Activities: Requests for Comments; Clearance of a Renewed Approval of Information Collection: Protection of Voluntarily Submitted Information

AGENCY: Federal Aviation Administration (FAA), DOT.

ACTION: Notice and request for comments.

SUMMARY: In accordance with the Paperwork Reduction Act of 1995, FAA invites public comments about our intention to request the Office of Management and Budget (OMB) approval to renew an information collection. The collection involves protection of voluntarily submitted information. Part 193 of the Federal Aviation Administration (FAA) regulations provides that certain information submitted to the FAA on a voluntary basis is not to be disclosed. This part implements a statutory provision. The purpose of part 193 is to encourage the aviation community to voluntarily share information with the FAA so that the agency may work cooperatively with industry to identify modifications to rules, policies, and procedures needed to improve safety, security, and efficiency of the National Airspace System (NAS). The information collection associated with part 193 also supports the Department of Transportation's Strategic Goal of Safety and Security.

DATES: Written comments should be submitted by August 22, 2023.

ADDRESSES: Please send written comments:

By Electronic Docket: www.regulations.gov (Enter docket number into search field).

By mail: Sandra Ray, Federal Aviation Administration, AFS-260, 1187 Thorn Run Road, Suite 200, Coraopolis, PA 15108.

By fax: 412-239-3063.

FOR FURTHER INFORMATION CONTACT: Sandra Ray by email at: Sandra.ray@faa.gov; phone: 412-546-7344.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0646.

Title: Protection of Voluntarily Submitted Information.

Form Numbers: None.

Type of Review: Renewal of an information collection.

Background: Part 193 of the FAA regulations provides that certain information submitted to the FAA on a voluntary basis is not to be disclosed. Part 193 implements a statutory provision. Section 40123 was added to title 49, United States Code, in the Federal Aviation Reauthorization Act of 1996 to encourage people to voluntarily submit desired information. Section 40123 allows the Administrator, through FAA regulations, to protect from disclosure voluntarily provided information relating to safety and security issues.

The purpose of part 193 is to encourage the aviation community to voluntarily share information with the FAA so that the agency may work cooperatively with industry to identify modifications to rules, policies, and procedures needed to improve safety, security, and efficiency of the National Airspace System. FAA programs that are covered under part 193 are Voluntary Safety Reporting Programs, Air Traffic and Technical Operations Safety Action programs, the Aviation Safety Action Program, and the Voluntary Disclosure Reporting Program. This rule imposes a negligible paperwork burden for certificate holders and fractional ownership programs that choose to submit a letter notifying the Administrator that they wish to participate in a current program.

The number of respondents has greatly increased since the initial approval of this information collection. In order to accurately reflect the burden of this information collection going forward, the FAA has included total current participants in the programs.

Respondents: 2604.

Frequency: Varies per response time.

Estimated Average Burden per Response: Varies per response time.

Estimated Total Annual Burden: 493,723 Hours.

Issued in Washington, DC, on June 20, 2023.
Sandra L. Ray,
Aviation Safety Inspector, AFS-260.

[FR Doc. 2023-13394 Filed 6-22-23; 8:45 am]

BILLING CODE 4910-13-P